DEPARTMENT OF AGRICULTURE

Natural Resources Conservation Service

Notice of Intent to Write an Environmental Impact Statement (EIS) for Williamson River Delta Restoration Project

AGENCY: Natural Resources Conservation Service, USDA.

ACTION: Notice of intent to write an Environmental Impact Statement (EIS) for the Williamson River Delta Restoration Project and requesting public comment. A public meeting will be held at the Chiloquin High School Library on January 28, 2003, at 7 p.m. (see Web site below for more information).

SUMMARY: The NRCS is seeking public comment for the next phase of the stream restoration project on the Williamson River Delta. The full notice of intent can be found at the following website: http://www.or.nrcs.usda.gov.

DATES: Comments will be received for a 45-day period beginning January 29, 2003, through March 15, 2003.

ADDRESSES: Address all requests and comments to Kevin Conroy, Basin Team Leader, Natural Resources Conservation Service (NRCS), 2316 South 6th St., Suite C, Klamath Falls, OR 97601, 541-882-9044 (FAX).

FOR FURTHER INFORMATION CONTACT: Kevin Conroy, 541-883-6924.

Dated: January 22, 2003.
Bob Graham,
State Conservationist, Portland, OR.

[FR Doc. 03-1885 Filed 1-27-03; 8:45 am]

BILLING CODE 3410-16-P